DEPARTMENT OF COMMERCE

National Oceanic and Atmospheric Administration

[I.D. 090805B]

Marine Mammals; File No. 774-1649-03

AGENCY: National Marine Fisheries Service (NMFS), National Oceanic and Atmospheric Administration (NOAA), Commerce.

ACTION: Notice; receipt of application for permit amendments.

SUMMARY: Notice is hereby given that the Southwest Fisheries Science Center, National Marine Fisheries Service, 8604 La Jolla Shores Drive, La Jolla, California 92038 (Principal Investigator: Rennie Holt, Ph.D.) has requested an amendment to scientific research Permit No. 774-1649-02.

DATES: Written, telefaxed, or e-mail comments on the new application and amendment requests must be received on or before November 2, 2005.

ADDRESSES: The application, permit and related documents are available for review upon written request or by appointment in the following office(s):

Permits, Conservation and Education Division, Office of Protected Resources, NMFS, 1315 East-West Highway, Room 13705, Silver Spring, MD 20910; phone (301)713-2289; fax (301)427-2521; and

Assistant Regional Administrator for Protected Resources, Southwest Region, NMFS, 501 West Ocean Blvd., Suite 4200, Long Beach, CA 90802-4213; phone (562)980-4020; fax (562)980-4027.

Written comments or requests for a public hearing on this request should be mailed to the Chief, Permits, Conservation and Education Division, F/PR1, Office of Protected Resources, NMFS, 1315 East-West Highway, Room 13705, Silver Spring, MD 20910. Those individuals requesting a hearing should set forth the specific reasons why a hearing on this request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 774-1649-03.

FOR FURTHER INFORMATION CONTACT: Ruth Johnson or Tammy Adams, 301/713-2289.

SUPPLEMENTARY INFORMATION: The subject amendment is requested under the authority of the Marine Mammal Protection Act of 1972, as amended (MMPA; 16 U.S.C. 1361 et seq.), and the Regulations Governing the Taking and Importing of Marine Mammals (50 CFR part 216).

Permit No. 774-1649-02, issued to the NMFS, Southwest Fisheries Science Center, authorizes the Holder to capture and restrain 100 adults/juveniles and 600 Antarctic fur seal (Arctocephalus gazella) pups to: handle (weigh and measure); sample (extract tooth, blood, and milk); and tag (flipper tag and instrument). Additionally, the Permit authorizes incidental harassment of Southern elephant seals (Mirounga leonina), Crabeater seals (Lobodon carcinophagus), Leopard seals (Hydrurga leptonyx), Ross seals (Ommatophoca rossii), and Weddell seals (Leptonychotes weddellii) during census surveys and mortality of up to three Antarctic fur seals incidental to capture operations. The Permit expires April 30, 2006.

The Holder now requests an amendment to the Permit to conduct additional activities on 15 Antarctic fur seal females and 30 pups already authorized to be taken. There would be no change in the total number of animals captured or the number of captures per animal each year. Adult females and pups would be administered isotopes (doubly-labeled water (DLW)) for female/pup energetic studies. Blood samples would be collected pre- and post administration of isotopes. Seals would be held up to three hours and the female and pup released simultaneously. Additionally, pups would be lavaged to remove milk from their stomachs before the administration of DLW.

Concurrent with the publication of this notice in the Federal Register, NMFS is forwarding a copy of this application to the Marine Mammal Commission and its Committee of Scientific Advisors.

Dated: Sptember 26, 2005.
Stephen L. Leathery,
Chief, Permits, Conservation and Education Division, Office of Protected Resources, National Marine Fisheries Service.

[FR Doc. 05-19732 Filed 9-30-05; 8:45 am]

BILLING CODE 3510-22-S